DEPARTMENT OF STATE

[Public Notice: 12119]

Plenary Meeting of the Binational Bridges and Border Crossings Group in Washington, DC

ACTION: Notice of a meeting.

SUMMARY: Delegates from the U.S. and Mexican governments, the states of California, Arizona, New Mexico, and Texas, and the Mexican states of Baja California, Sonora, Chihuahua, Coahuila, Nuevo Laredo, and Tamaulipas will participate in a plenary meeting of the U.S.-Mexico Binational Bridges and Border Crossings Group on Friday, July 21, 2023, in Washington, DC. The purpose of this meeting is to discuss operational matters involving existing and proposed international bridges and border crossings and their related infrastructure and to exchange technical information as well as views on policy. This meeting will include a public session on Friday, July 21, 2023, from 8:30 a.m. until 11:30 a.m. This session will allow proponents of proposed bridges and border crossings and related projects to make presentations to the delegations and members of the public.

DATES: July 21, 2023.

FOR FURTHER INFORMATION CONTACT: For further information on the meeting and to attend the public session, please contact Hillary Quam, Border Coordinator, in the Office of Mexican Affairs' Border Affairs Unit via email at WHA-BorderAffairs@state.gov, by phone at 202-647-9894, or by mail at the Office of Mexican Affairs, Room 3924, Department of State, 2201 C Street NW, Washington, DC 20520.

Christopher Bodington,
Border Affairs Officer, Office of Mexican Affairs, Department of State.

[FR Doc. 2023-14021 Filed 6-30-23; 8:45 am]

BILLING CODE 4710-29-P